DEPARTMENT OF AGRICULTURE

Forest Service

Olympic Peninsula Resource Advisory Committee

AGENCY: Forest Service, USDA.

ACTION: Notice of meeting.

SUMMARY: The Olympic Peninsula Resource Advisory Committee (RAC) will meet in Montesano, Washington. The committee is authorized under the Secure Rural Schools and Community Self-Determination Act (the Act) and operates in compliance with the Federal Advisory Committee Act. The purpose of the committee is to improve collaborative relationships and to provide advice and recommendations to the Forest Service concerning projects and funding consistent with Title II of the Act. RAC information, including the meeting agenda and the meeting summary/minutes can be found at the following website: https://www.fs.usda.gov/detail/olympic/workingtogether/advisorycommittees/?cid=fsbdev3_049547.

DATES: The meeting will be held on the following dates:

• Friday, May 10, 2019, at 8:30 a.m., and

• Thursday, May 23, 2019, at 8:30 a.m., if needed.

All RAC meetings are subject to cancellation. For status of the meeting prior to attendance, please contact the person listed under FOR FURTHER INFORMATION CONTACT.

ADDRESSES: The meeting will be held at the Montesano City Hall Meeting Room, 112 North Main Street, Montesano, Washington.

Written comments may be submitted as described under SUPPLEMENTARY INFORMATION. All comments, including names and addresses when provided, are placed in the record and are available for public inspection and copying. The public may inspect comments received at the Olympic National Forest Supervisor's Office, 1835 Black Lake Boulevard, Olympia, Washington. Please call ahead at 360-956-2200 to facilitate entry into the building.

FOR FURTHER INFORMATION CONTACT: Susan Garner, RAC Coordinator, by phone at 360-956-2390 or via email at scgarner@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to discuss, recommend, and approve new Title II projects.

The meeting is open to the public. The agenda will include time for people to make oral statements of three minutes or less. Individuals wishing to make an oral statement should request in writing by Friday, May 1, 2019, to be scheduled on the agenda. Anyone who would like to bring related matters to the attention of the committee may file written statements with the committee staff before or after the meeting. Written comments and requests for time for oral comments must be sent to Susan Garner, RAC Coordinator, 1835 Black Lake Boulevard, Southwest, Olympia, Washington 98512; by email to scgarner@fs.fed.us or via facsimile at 360-965-2320.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: March 22, 2019.
Allen Rowley,
Acting Associate Deputy Chief, National Forest System.

[FR Doc. 2019-07604 Filed 4-16-19; 8:45 am]

BILLING CODE 3411-15-P